DEPARTMENT OF COMMERCE

National Oceanic and Atmospheric Administration

RIN 0648-XG462

New England Fishery Management Council; Public Meeting

AGENCY: National Marine Fisheries Service (NMFS), National Oceanic and Atmospheric Administration (NOAA), Commerce.

ACTION: Notice of public meeting.

SUMMARY: The New England Fishery Management Council (Council, NEFMC) will hold a four-day meeting to consider actions affecting New England fisheries in the exclusive economic zone (EEZ).

DATES: The meeting will be held on Monday, September 24, 2018 through Thursday, September 27, 2018, beginning at 2 p.m. on September 24 and 8:30 a.m. on September 25, 26, and 27.

ADDRESSES:

Meeting address: The meeting will be held at Hotel 1620 Plymouth Harbor, 180 Water Street, Plymouth, MA 02360; telephone: (508) 747-4900; online at www.hotel1620.com.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Monday, September 24, 2018

After introductions and brief announcements, the meeting will begin with the swearing-in of reappointed Council members, followed by the annual election of officers. Next, the Council will hear reports from the Council Chairman and Executive Director, NMFS's Regional Administrator for the Greater Atlantic Regional Fisheries Office (GARFO), liaisons from the Northeast Fisheries Science Center (NEFSC) and Mid-Atlantic Fishery Management Council, representatives from NOAA General Counsel and NOAA's Office of Law Enforcement, and staff from the Atlantic States Marine Fisheries Commission (ASMFC) and U.S. Coast Guard. The Council then will take up its Small-Mesh Multispecies (Whiting) Committee Report and cover three issues: (1) The Annual Monitoring Report for Fishing Year 2017; (2) Amendment 22, which will include a review of public hearing comments and Council action on whether or not to adopt a limited access program and related measures for small-mesh multispecies; and (3) Council approval of committee recommendations to streamline small-mesh multispecies regulations. Following these actions, the Council will adjourn for the day.

Tuesday, September 25, 2018

The Council will begin the day by providing input and recommendations to the panel conducting the Research Set-Aside (RSA) Program Review. Then, the Northeast Fisheries Science Center will present the findings of recent benchmark stock assessments for Atlantic herring and Atlantic sea scallops that were conducted during the 65th Stock Assessment Workshop/Stock Assessment Review Committee (SAW/SARC 65). The Council next will take up several issues under its Scallop Committee Report, beginning with an update on Framework Adjustment 30, which includes specifications for fishing year 2019, default specifications for 2020, and several standard default measures. As part of this discussion, the Council will receive an overview of 2018 scallop surveys. The Council also will receive an update on the General Category Individual Fishing Quota (IFQ) trip limit analysis being conducted for the IFQ component of the scallop fishery. Finally, the Council will receive a progress report on work being done to address 2018 scallop priorities.

Following the lunch break, the Council will begin the Atlantic Herring Committee Report and take final action on Amendment 8 to the Atlantic Herring Fishery Management Plan (FMP). The amendment was developed to: (1) Establish an acceptable biological catch (ABC) control rule for Atlantic herring; and (2) address potential localized depletion and user conflicts in the fishery. The Council also will receive a progress report on the development of 2019-2021 Atlantic herring fishery specifications and discuss potential independent action by NMFS to set 2019 catch limits if needed. The Council then will adjourn for the day.

Wednesday, September 26, 2018

The third day of the meeting will begin with an update on the Northeast Regional Coordinating Council's progress in revising the stock assessment process and assessment scheduling, followed by a brief report on the Northeast Trawl Advisory Panel's June 19, 2018 meeting. Then, the Council will begin addressing a series of U.S./Canada issues based on information from the Transboundary Resources Assessment Committee (TRAC), the Scientific and Statistical Committee (SSC), and the Transboundary Management Guidance Committee (TMGC). The TRAC report will be first with a summary of 2017 assessment results for three U.S./Canada shared stocks—Eastern Georges Bank cod, Eastern Georges Bank haddock, and Georges Bank yellowtail flounder. Next, the SSC will provide the Council with 2019-2020 overfishing limit (OFL) and ABC recommendations for Georges Bank yellowtail. The Council then will review and approve the TMGC's recommendations for 2019 total allowable catches (TACs) for shared U.S./Canada stocks. Next, the Council will hear Part 2 of the SSC's report and receive the SSC's comments on rebuilding strategies for several groundfish stocks. The Groundfish Committee Report will follow. The Council will approve the range of alternatives for Framework Adjustment 58 to the Northeast Multispecies FMP, which includes: (1) 2019 TACs for U.S./Canada stocks; (2) rebuilding plans for several groundfish stocks; (3) minimum size exemptions for vessels fishing in waters regulated by the Northwest Atlantic Fisheries Organization (NAFO); and guidance on groundfish sector overages. The Groundfish Committee Report also will include an update on Groundfish Monitoring Amendment 23 and an update on work being conducted by the Fishery Dependent Data Working Group. Just before the lunch break, the Bureau of Ocean Energy Management (BOEM) will have a brief opportunity to invite Council members and the public to attend BOEM's “open office” in the Plympton Room of the same hotel to provide input and speak to BOEM staff regarding: The New York Bight Area Identification; the Vineyard Wind Draft Environmental Impact Statement (DEIS); the South Fork Wind Farm Construction and Operations Plan (COP); and other issues of interest.

After the lunch break, the Groundfish Committee report will resume and continue until related business is concluded. Then, members of the public will have the opportunity to speak during an open comment period on issues that relate to Council business but are not included on the published agenda for this meeting. The Council asks the public to limit remarks to 3-5 minutes. The Council next will receive a progress report on steps being taken in response to recent recommendations made by the external Council Program Review Panel. The Highly Migratory Species (HMS) Advisory Panel (AP) report will follow, summarizing highlights from the HMS AP's September 5-6 meeting. This report will be followed by a NMFS staff presentation and Council consultation on HMS Amendment 11 to address overfishing and rebuild North Atlantic shortfin mako sharks. NMFS staff from the Marine Recreational Information Program (MRIP) will be up next with a presentation on recent changes to the program. At the conclusion of this discussion, the Council will adjourn for the day.

Thursday, September 27, 2018

The fourth day of the meeting will begin with an initial discussion of 2019 Council priorities covering tasks and actions for all committees and Council responsibilities. The Council will not take final action on priorities until its December meeting. Next, the Council will hear from its Habitat Committee, starting with the Clam Dredge Framework. The Council will discuss the alternatives being developed to consider continued surfclam dredge fishery access to the Great South Channel Habitat Management Area (HMA) and possible consideration of a mussel dredge exemption in the HMA. The Council also will receive an update on ongoing offshore energy activities in the Northeast and receive an introduction to the Responsible Offshore Development Alliance. The Research Steering Committee then will report on: (a) Recommendations regarding the future of the Research Steering Committee; (b) updates on improving the communication of research priorities and data needs; and (c) other related issues.

Following a lunch break, the Council will receive an update on ongoing fisheries-related legislation on Capitol Hill, including reauthorization of the Magnuson-Stevens Fishery Conservation and Management Act. The Council will have an opportunity to discuss legislative activity. Next, the Council will shift to Ecosystem-Based Fishery Management (EBFM), starting with a presentation on the Center for Independent Experts EBFM Strategy Review final report. The Council also will: (1) Receive a short progress report on work being conducted to develop a Georges Bank example Fishery Ecosystem Plan (eFEP); and (2) review and approve comments on NOAA's regional implementation plan for the agency's EBFM Roadmap. Then, the Council will receive the Fishing Year 2017 Annual Monitoring Report for the Northeast Skate Complex. This report will be followed by a discussion of NMFS's Fisheries Allocation Policy Directive. The Council will discuss the policy directive and associated procedural directives for reviewing fisheries allocations, which include identifying “triggers” to initiate an allocation review. Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: September 4, 2018.
Tracey L. Thompson,
Acting Deputy Director, Office of Sustainable Fisheries, National Marine Fisheries Service.

[FR Doc. 2018-19474 Filed 9-7-18; 8:45 am]

BILLING CODE 3510-22-P